NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before December 24, 2008. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

FAX: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1228.24(b)(3).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Defense, National Security Agency (N1-457-08-1, 7 items, 3 temporary items). Records relating to signals intelligence activities, including raw signals data, administrative collection records, and records relating to the control, exchange, and distribution of signals intelligence material. Proposed for permanent retention are finished products, including raw source data used in its production; operational analysis records, including requirements, directives, tasking messages, handbooks, and other related records; cryptanalysis methodologies; and signals intelligence program and policy records.

2. Department of Health and Human Services, Centers for Medicare and Medicaid Services (N1-440-08-1, 2 items, 2 temporary items). Records relating to the approval of accreditation organizations for laboratories and customer satisfaction surveys completed by evaluated laboratories.

3. Department of Homeland Security, Headquarters (N1-563-08-11, 3 items, 3 temporary items). Records associated with agency training programs, including records documenting attendance at agency-sponsored training activities, instructional materials such as training course plans, manuals, textbooks, and syllabuses, and other training aids.

4. Department of Homeland Security, Office of Operations Coordination (N1-563-08-19, 1 item, 1 temporary item). Master files associated with an electronic information system containing suspicious activity and incident reports used to identify pre-operational planning for terrorism or other threats.

5. Department of Homeland Security, Office of Operations Coordination (N1-563-08-23, 3 items, 2 temporary items). Situational awareness reports and associated background material regarding possible and confirmed threats, events, and incidents as maintained by the National Operations Center in the Senior Watch Officer Log and the Incident Tracking Index. Proposed for permanent retention are records of the Incident Tracking Index associated with events of national or global significance.

6. Department of Homeland Security, U.S. Citizenship and Immigration Services (N1-566-08-19, 1 item, 1 temporary item). Master file associated with an electronic information system that schedules appointments for individuals to submit biometric information in order to apply for immigration benefits.

7. Department of Homeland Security, U.S. Citizenship and Immigration Services (N1-566-08-20, 1 item, 1 temporary item). Master file associated with an electronic database containing information collected on individuals for the production and distribution of employee credential cards.

8. Department of Homeland Security, U.S. Citizenship and Immigration Services (N1-566-09-1, 1 item, 1 temporary item). Master file associated with an electronic information system that provides for the transmittal and printing of approved applications to create secure identity cards of immigrants seeking various actions and benefits.

9. Department of Homeland Security, U.S. Citizenship and Immigration Services (N1-566-09-2, 2 items, 2 temporary items). Inputs and master file associated with an electronic information system that tracks migrant information to respond to requests from family members, transmitted through a member of Congress, regarding the status of a relative who may have been interdicted at sea.

10. Department of Homeland Security, U.S. Citizenship and Immigration Services (N1-566-09-4, 1 item, 1 temporary item). Master file associated with an electronic information system that monitors the initial adjudication process for individuals applying for immigration benefits.

11. Department of Homeland Security, United States Coast Guard (N1-26-05-15, 6 items, 2 temporary items). Notifications of potential law enforcement incidents that are not acted upon and routine law enforcement boardings. Proposed for permanent retention are such records as notifications, case files, and incident-related records associated with law enforcement, search and rescue, and environmental protection activities. The proposed disposition instructions are limited to electronic records.

12. Department of Homeland Security, Transportation Security Administration (N1-560-08-1, 6 items, 6 temporary items). Various administrative records including motor vehicle case files, field office buildings space design and construction standards records, headquarters buildings specifications, plans, drawings, and leases, fitness center membership records, and records relating to the adjudication of contract performance disputes.

13. Department of the Interior, Office of the Secretary (N1 48-08-15, 1 items, 1 temporary item). Master files of an electronic information system used to monitor the progress and performance of agency programs.

14. Department of the Interior, Office of the Secretary (N1 48-08-18, 2 items, 2 temporary items). Electronic records of the Quarters Management Information System, which relates to rental rate setting, including such matters as rental rates for government owned or leased housing and utilities rates.

15. Department of Justice, Bureau of Alcohol, Tobacco, Firearms, and Explosives (N1-436-08-8, 1 item, 1 temporary item). Master files of the National Integrated Ballistic Information Network Case System which consists of summaries of police reports of criminal incidents linked together by a specific firearm which was identified by the National Integrated Ballistic Information Network.

16. Central Intelligence Agency, Office of Public Affairs (N1-263-08-1, 1 item, 1 temporary item). Press clippings from open sources distributed to agency staff for reference purposes.

17. Federal Energy Regulatory Commission, Agency-wide (N1-138-09-2, 4 items, 4 temporary items). Records relating to enforcement activities, including investigations, audits, contested audits and final audit reports. Paper versions of these files were previously approved for disposal.

18. Nuclear Regulatory Commission, Agency-wide (N1-431-08-18, 3 items, 3 temporary items). Master files and outputs of an electronic information system that maintains information on licensing and inspection of facilities.

19. Social Security Administration, Deputy Commissioner for Systems (N1-47-08-2, 1 item, 1 temporary item). Global reference tables providing standard code structures used by agency electronic information systems.

Dated: November 19, 2008.
Michael J. Kurtz,
Assistant Archivist for Records Services—Washington, DC.

[FR Doc. E8-27915 Filed 11-21-08; 8:45 am]

BILLING CODE 7515-01-P